DEPARTMENT OF LABOR

Office of the Secretary

Submission for OMB Review; Comment Request

November 29, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Darrin King on (202) 693-4129 or e-mail: King-Darrin@dol.gov.

Comments should be sent to Office of Information and Regulatory Affairs, Attn: Stuart Shapiro, OMB Desk Officer for OSHA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of a currently approved collection.

Agency: Occupational Safety and Health Administration (OSHA).

Title: Commercial Diving Operations—29 CFR 1910, Subpart T.

OMB Number: 1218-0069.

Affected Public: Business or other for-profit; Not-for-profit institutions; Federal Government; and State, Local, or Tribal Government.

Type of Response: Recordkeeping and Reporting.

Frequency: On occasion and Annually.

Number of Respondents: 3,000.

Requirement | Annual responses | Average response time (hours) | Estimated burden hours
§ 1910.401(b):
Phone | 3,000 | 0.25 | 0
Written | 3,000 | 2.00 | 0
§ 1910.420(a) and (b) | 300 | 1.00 | 300
§ 1910.420(a) and (b) | 3,000 | 0.05 | 150
§ 1910.423(d)(1) | 1,500,000 | 0.08 | 120,000
§ 1910.423(d)(2) | 150,000 | 0.08 | 12,000
§ 1910.423(d)(3) | 16,500 | 0.08 | 1,320
§ 1910.423(e) | 16,500 | 1.00 | 16,500
§ 1910.430(a) | 180,000 | 0.05 | 9,000
§ 1910.430(b)(4) | 6,000 | 0.05 | 300
§ 1910.430(c)(1)(iii) | 20,000 | 0.05 | 1,000
§ 1910.430(f)(3)(ii) | 300 | 0.05 | 15
§ 1910.430(g)(2) | 12,000 | 0.05 | 600
§ 1910.440(a)(2) | 165 | 0.17 | 28
§ 1910.440(b)(1) and (b)(2) | 193,135 | 0.03 | 5,794
§ 1910.440(b)(3) | 1,904,465 | 0.02 | 38,089
§ 1910.440(b)(4) and (b)(5) | 601 | 0.50 | 301
Total | 4,005,966 |  | 205,397

Total Annualized Capital/Startup Costs: $0.

Total Annual Costs (operating/maintaining systems or purchasing services): $0.

Description: The Standards' paperwork requirements allow employers to deviate from established diving practices and tailor diving operations to unusually hazardous diving conditions, and to analyze diving records (including hospitalization and treatment records) for information they can use to improve diving operations. These requirements are also a direct and efficient means for employers to inform dive-team members about diving-related hazards, procedures to use in avoiding and controlling these hazards, and recognizing and treating diving-related illnesses and injuries. Additionally, employers can review equipment records to ensure that employees performed the required actions, and that the equipment is in safe working order.

Disclosing the records to employees and their designated representatives permits them to identify operational and equipment conditions that may contribute to diving accidents or diving-related medical conditions. Moreover, the records provide the most efficient means for OSHA compliance officers to determine that employers are performing the regulatory requirements of the Standards.

Type of Review: Extension of a currently approved collection.

Agency: Occupational Safety and Health Administration (OSHA).

Title: Fire Brigades.

OMB Number: 1218-0075.

Affected Public: Business or other for-profit; Not-for-profit institutions; Federal Government; and State, Local, or Tribal Government.

Type of Response: Recordkeeping and Third-party disclosure.

Frequency: On occasion.

Number of Respondents: 8,391.

Number of Annual Responses: 8,391.

Estimated Time Per Response: 5 minutes to obtain a physician's certificate and 2 hours to develop an organizational statement.

Total Burden Hours: 6,042.

Total Annualized Capital/Startup Costs: $0.

Total Annual Costs (operating/maintaining systems or purchasing services): $0.

Description: 29 CFR 1910.156 requires employers to develop an organized statement for fire brigades. The organizational statement describes what the fire brigade is expected to do, and will help employees understand their duties are as fire brigade members. It also informs OSHA compliance offices of the type of fire fighting that will be performed.

Type of Review: Extension of a currently approved collection.

Agency: Occupational Safety and Health Administration (OSHA).

Title: Occupational Exposure to Hazardous Chemicals in Laboratories.

OMB Number: 1218-0131.

Affected Public: Business or other for-profit; Federal Government; and State, Local, or Tribal Government.

Type of Response: Recordkeeping and Third-party disclosure.

Frequency: On occasion; Annually; Semi-annually; and Quarterly.

Number of Respondents: 41,900.

Requirement | Annual responses | Average time per response (hours) | Estimated burden hours
Exposure Monitoring and Measurement | 41,900 | 0.17 | 7,123
Employees Notification of Monitoring Results | 41,900 | 0.08 | 3,352
Chemical Hygiene Plan—New | 750 | 8.00 | 6,000
Chemical Hygiene Plan—Existing | 41,900 | 0.50 | 20,950
Information and Training | 15,970 | 1.00 | 15,970
Medical Surveillance, Medical Examination | 63,880 | 0.75 | 47,910
Medical Surveillance, Medical Examination | 31,940 | 1.50 | 47,910
Medical Surveillance, Medical Examination | 31,940 | 2.25 | 71,865
Medical Surveillance, Information Provided to Physician | 127,760 | 0.08 | 10,221
Medical Surveillance, Physician's Written Opinion | 127,760 | 0.08 | 10,221
Hazardous Identification | 0 | 0.00 | 0
Use of Respirators | 0 | 0.00 | 0
Exposure Monitoring/Medical Records | 169,660 | 0.08 | 13,573
Making Records and Documents Available to Employees or OSHA | 173,063 | 0.08 | 13,845
Transferring Records to the National Institute of Occupational Safety and Health | 333 | 1.00 | 333
Totals | 868,756 |  | 269,273

Total Annualized Capital/Startup Costs: $0.

Total Annual Costs (operating/maintaining systems or purchasing services): $18,235,000.

Description: 29 CFR 1910.1450 requires employers to monitor employee exposure to hazardous chemicals in laboratories, to provide medical consultation and examinations, to train employees about the hazards of chemicals in their working areas, and to establish and maintain accurate records of employee exposure to hazardous chemicals in laboratories. These records are used by employers, employees, physicians, and the Government to ensure the health and safety of workers.

Type of Review: Extension of a currently approved collection.

Agency: Occupational Safety and Health Administration (OSHA).

Title: Cadmium in General Industry— 29 CFR 1910.1027.

OMB Number: 1218-0185.

Affected Public: Business or other for-profit; Federal Government; and State, Local, or Tribal Government.

Type of Response: Recordkeeping.

Frequency: On occasion, Semi-annually, and Annually.

Number of Respondents: 53,161.

Information collection requirement | Annual responses | Average response time (hours) | Requested burden hours
Exposure Monitoring:
Initial Monitoring | 0 | 0.00 | 0
Objective Data | 167 | 1.00 | 167
Monitoring Frequency (Periodic Monitoring) | 14,261 | 0.50 | 7,131
Additional Monitoring | 143 | 0.50 | 72
Employee Notification of
Monitoring Results | 142,898 | 0.08 | 11,432
Compliance Program:
Review and Update Plan | 5,052 | 1.50 | 7,578
Compliance Plan for Plants above the Permissible Exposure Level | 9,622 | 1.00 | 9,622
Respiratory Protection (Respiratory Program and Respirator Fit-Testing) | 0 | 0.00 | 0
Emergency Situations | 0 | 0.00 | 0
Notification of Laundry Personnel | 0 | 0.00 | 0
Medical Surveillance:
Initial Examination | 35,653 | 1.50 | 53,480
Additional Examinations | 285 | 1.50 | 428
Biological Monitoring | 1,110 | 0.75 | 833
Information Provided to Physician | 37,048 | 0.08 | 2,964
Physician's Written Medical Opinion | 37,048 | 0.08 | 2,964
Communication of Cadmium Hazards to Employees:
Warning Signs and Warning Labels | 0 | 0.00 | 0
Employee Information and Training | 21,659 | 1.00 | 21,659
Recordkeeping | 0 | 0.00 | 0
Training Records | 21,490 | 0.08 | 1,719
Making Records Available to OSHA or Employees | 52,615 | 0.08 | 4,210
Transfer of Records | 0 | 0.00 | 0
Total | 379,051 |  | 124,259

Total Annualized Capital/Startup Costs: $0.

Total Annual Costs (operating/maintaining systems or purchasing services): $6,190,692.

Description: The information collection requirements specified in the Cadmium in General Industry Standard (Sec. 1910.1027; “the Standard”) protect employees from the adverse health effects that may result from occupational exposure to cadmium. The major information collection requirements in the Standard include conducting employee exposure monitoring, notifying employees of their cadmium exposures, implementing a written compliance program, implementing medical surveillance of employees, providing examining physicians with specific information, ensuring that employees receive a copy of their medical surveillance results, maintaining employees' exposure monitoring and medical surveillance records for specific periods, and providing access to these records by OSHA, the National Institute of Occupational Safety and Health, the employee who is the subject of the records, the employee's representative, and other designated parties.

Type of Review: Extension of a currently approved collection.

Agency: Occupational Safety and Health Administration (OSHA).

Title: Standard on Walking-Working Surfaces—29 CFR Part 1910, Subpart D.

OMB Number: 1218-0199.

Affected Public: Business or other for-profit; Not-for-profit institutions; Federal Government; and State, Local, or Tribal Government.

Type of Response: Recordkeeping and Third-party disclosure.

Frequency: Initially and On occasion.

Number of Respondents: 10,100.

Number of Annual Responses: 10,100.

Estimated Time Per Response: 3 minutes.

Total Burden Hours: 505.

Total Annualized Capital/Startup Costs: $0.

Total Annual Costs (operating/maintaining systems or purchasing services): $0.

Description: The following provisions of the Standards on Walking-Working Surfaces (29 CFR part 1910, subpart D; “the Standards”) specify collection of information requirements: Secs. 1910.22(b)(2), 1910.22(d)(1), 1910.26(c)(2)(vii), and 1910.28(e)(3). These provisions require employers to: Permanently mark aisles and passageways in buildings; post signs in a conspicuous location that show floor-loading limits approved by the building official, and replace these signs if lost, removed, or defaced; mark defective ladders and remove them from service until repaired; and, if a registered professional engineer designs an outrigger scaffold, construct and erect it according to this design, and maintain at the jobsite a copy of the detailed drawings and specifications showing the sizes and spacing of members. These paperwork requirements prevent serious injury and death among employees by notifying them of: Clearance limits in aisles and passageways to avoid improper use (and resulting impact) by mechanical-handling equipment; maximum loadings to prevent floor collapse; defective ladders that could become unstable or collapse during use; and proper construction and erection of outrigger scaffolds to avoid instability or collapse.

Type of Review: Extension of a currently approved collection.

Agency: Occupational Safety and Health Administration (OSHA).

Title: Powered Industrial Trucks.

OMB Number: 1218-0242.

Affected Public: Business or other for-profit; Not-for-profit institutions; Federal Government; and State, Local, or Tribal Government.

Type of Response: Recordkeeping and Third-party disclosure.

Frequency: On occasion; Initially; Triennially; and Annually.

Number of Respondents: 999,000.

Requirement | Annual reponses | Average response time (hours) | Estimated burden hours
Notification of Truck Approval | 199,800 | 0.08 | 15,984
Notification of Truck Modifications | 49,950 | 0.08 | 3,996
Notification of Front—End Attachments | 19,980 | 0.08 | 1,598
Inspection of Markers | 0 | 0.00 | 0
Operator Training—Initial Training | 28,881 | 6.17 | 178,196
Operator Training—Refresher Training | 9,627 | 2.17 | 20,891
Training Rehires | 28,881 | 2.17 | 62,672
Operator Evaluation—Triennial Evaluations | 513,438 | 0.58 | 297,794
Operator Evaluation—Evaluating Rehires | 231,047 | 0.25 | 57,762
Certifying Evaluation and Training | 539,110 | 0.34 | 183,298
Total | 1,620,714 |  | 822,191

Total Annualized Capital/Startup costs: $0.

Total Annual Costs (operating/maintaining systems or purchasing services): $0.

Description: Under the paperwork requirement specified by paragraph (a)(3) of 1910.178, employers must place a marker (e.g., label) on an approved truck indicating that a national testing laboratory accepted its design and construction.¹ Paragraph (a)(4) requires that employers obtain the manufacturer's written approval before modifying a truck in a manner that affects its capacity and safe operation; if the manufacturer grants such approval, the employer must revise capacity, operation, and maintenance instruction plates, tags, and decals accordingly. For front-end attachments not installed by the manufacturer, paragraph (a)(5) mandates that employers provide a marker on the trucks that identifies the attachment, as well as the weight of both the truck and the attachment when the attachment is at maximum elevation with a laterally centered load. Paragraph (a)(6) specifies that employers must ensure that the markers required by paragraphs (a)(3) through (a)(5) remain affixed to trucks and are legible.

¹ A national testing laboratory evaluates a truck's electrical system for fire safety.

Paragraphs (1)(1) through (1)(6) of 1910.178 contain the paperwork requirements necessary to certify the training provided to powered industrial truck operators. Accordingly, these paragraphs specify the following requirements for employers:

• Paragraph (1)(1)—Ensure that trainees successfully complete the training and evaluation requirements of paragraph (1) prior to operating a truck without direct supervision.

• Paragraph (1)(2)—Allow trainees to operate a truck only under the direct supervision of an individual with the knowledge, training, and experience to train operators and to evaluate their performance, and under conditions that do not endanger other employees. The training program must consist of formal instruction, practical training, and evaluation of the trainee's performance in the workplace.

• Paragraph (1)(3)—Provide the trainees with initial training on each of 22 specified topics, except on topics that the employer demonstrates do not apply to the safe operation of the truck(s) in the employer's workplace.

• Paragraphs (1)(4)(i) and (1)(4)(ii)—Administer refresher training and evaluation on relevant topics to operators found by observation or formal evaluation to operate a truck unsafely, involved in an accident or near-miss incident, or assigned to operate another type of truck, or if the employer identifies a workplace condition that could affect safe truck operations.

• Paragraph (1)(4)(iii)—Evaluate each operator's performance at least once every three years.

• Paragraph (1)(5)—Train rehires only in specific topics that they performed unsuccessfully during an evaluation and that are appropriate to the employer's truck(s) and workplace conditions.

• Paragraph (1)(6)—Certify that each operator meets the training and evaluation requirements specified by paragraph (1). This certification must include the operator's name, the training date, the evaluation date, and the identity of the individual(s) who performed the training and evaluation.

Requiring markers notifies employees of the conditions under which they can safely operate powered industrial trucks, thereby, preventing such hazards as fires and explosions caused by poorly designed electrical systems, rollovers/tipovers that result from exceeding a truck's stability characteristics, and falling loads that occur when loads exceed the lifting capacities of attachments. Certification of training and evaluation provides a means of informing employers that their employees received the training, and demonstrated the performance necessary to operate a truck within its capacity and control limitations. Therefore, by ensuring that employees operate only trucks that are in proper working order, and do so safely, employers prevent severe injury and death to truck operators and other employees who are in the vicinity of the trucks. Finally, these paperwork requirements are the most efficient means for an OSHA compliance officer to determine that an employer properly notified employees regarding the design and construction of, and modifications made to, the trucks they are operating, and that an employer provided them with the required training.

Ira L. Mills,
Departmental Clearance Officer.

[FR Doc. 01-30187 Filed 12-5-01; 8:45 am]

BILLING CODE 4510-26-M